DEPARTMENT OF COMMERCE

International Trade Administration

[A-533-808]

Stainless Steel Wire Rod From India: Extension of Time Limit for the Preliminary Results of the Antidumping Duty Administrative Review

AGENCY: Import Administration, International Trade Administration, Department of Commerce.

ACTION: Notice of extension of time limit for the preliminary results of antidumping duty administrative review.

EFFECTIVE DATE: July 23, 2001.

FOR FURTHER INFORMATION CONTACT: Catherine Bertrand or Rick Johnson, AD/CVD Enforcement, Group III, Office 9, Import Administration, International Trade Administration, U.S. Department of Commerce, 14th Street and Constitution Avenue, NW., Washington DC 20230; telephone: (202) 482-3207 or (202) 482-3818, respectively.

The Applicable Statute

Unless otherwise indicated, all citations to the statute are references to the provisions effective January 1, 1995, the effective date of the amendments made to the Tariff Act of 1930 (the Act) by the Uruguay Round Agreements Act. In addition, unless otherwise indicated, all citations to the Departments's regulations are to the current regulations, codified at 19 CFR part 351 (2001).

Background

On December 27, 2000, the Department of Commerce (the Department) received a request from the Viraj Group, Limited, (“Viraj”) for an administrative review of the antidumping duty order on stainless steel wire rod from India. On January 31, 2001, the Department published a notice of initiation of this administrative review, covering the period of December 1, 1999 through November 30, 2000 (66 FR 8378). The preliminary results are currently due no later than September 2, 2001.

Extension of Time Limit for Preliminary Results

There are several complex issues in this case with respect to respondent's reported cost of manufacturing. Therefore, it is not practicable to complete this review within the initial time limits mandated by section 751(a)(3)(A) of the Act. Therefore, we are fully extending the due date for the preliminary results by 120 days until December 31, 2001. The final results continue to be due 120 days after the publication of the preliminary results.

Dated: July 17, 2001.
Joseph A. Spetrini,
Deputy Assistant Secretary Enforcement, Group III.

[FR Doc. 01-18341 Filed 7-20-01; 8:45 am]

BILLING CODE 3510-DS-P